ENVIRONMENTAL PROTECTION AGENCY

[FRL-9901-74-Region 5]

Public Hearing and Request for Comments on Proposed Revisions to Michigan's Clean Water Act (CWA) Program

AGENCY: Environmental Protection Agency (EPA).

ACTION: Notice of proposed revisions to Michigan's CWA Section 404 program, public hearing and request for comments.

SUMMARY: EPA requests comments on proposed revisions to Michigan's CWA Section 404 permitting program resulting from the recent enactment of Michigan Public Act 98 (PA 98). EPA will hold a public hearing in Lansing, Michigan, on December 11, 2013, to take comments on the proposed program revisions. Under Section 404 of the CWA, permits are required for activities involving discharges of dredged or fill material to waters of the United States, including wetlands, lakes and streams. In 1984, Michigan assumed Section 404 permitting authority for its inland waters and wetlands. PA 98 amended the wetlands and the inland lakes and streams provisions of the Michigan's Natural Resources and Environmental Protection Act to address areas, as identified by EPA in a 2008 program review, where the state's Section 404 program did not comply with CWA requirements. In addition to changes to address issues identified in EPA's program review, PA 98 included: (1) Changes to the definition of contiguous wetlands regulated by Michigan's Section 404 program; (2) the addition of new exemptions from permitting; and (3) changes to the requirements for mitigating the effects of filling wetlands and other waters of the United States. Under federal regulations, substantial changes to state CWA Section 404 programs do not become effective until program revisions are approved by EPA. Information about PA 98, the resulting proposed revisions to Michigan's Section 404 program, the public hearing, and procedures for submitting comments is available at: www.regulations.gov/ (insert: EPA-HQ-OW-2013-0710 in the search field).

DATES and LOCATION: On December 11, 2013, at 7:00 p.m. EST, EPA will hold a public hearing to take oral and written comments at the Crowne Plaza Lansing West (formerly known as the Lexington Lansing Hotel), 925 South Creyts Road, Lansing, Michigan 48917. The formal hearing will be preceded by an informational session at 6:00 p.m. EST. Written comments will also be accepted until December 18, 2013.

ADDRESSES: Submit comments, referencing Docket ID No. EPA-HQ-OW-2013-0710, online using www.regulations.gov (the preferred method); by email to ow-docket@epa.gov; or by mail to: EPA Docket Center, Environmental Protection Agency, Mail Code 28221T, 1200 Pennsylvania Ave. NW., Washington, DC 20460. All comments received will be included in the public docket without change, including any personal information provided, unless the comment includes profanity, threats, information claimed to be Confidential Business Information, or other information whose disclosure is restricted by statute.

FOR FURTHER INFORMATION CONTACT: For further information, call toll-free, 800-621-8431, weekdays, 8:30 a.m. to 4:30 p.m., central time, or contact Sue Elston, at the EPA Docket Center address noted above.

Dated: September 27, 2013.
Timothy C. Henry,
Acting Director, Water Division, EPARegion 5.

[FR Doc. 2013-24841 Filed 10-22-13; 8:45 am]

BILLING CODE 6560-50-P